SURFACE TRANSPORTATION BOARD

[Docket No. AB 1296 (Sub-No. 1X)]

R. J. Corman Railroad Property, LLC—Abandonment Exemption—in Campbell County, Tenn.

On April 21, 2023, R. J. Corman Railroad Property, LLC (RJC Railroad Property), a non-operating Class III rail carrier, submitted a petition under 49 U.S.C. 10502 for an exemption from the prior approval requirements of 49 U.S.C. 10903 to abandon what it later clarified as approximately 3.67 miles of line in Campbell County, Tenn. (the Line).¹ According to the updated description, the Line extends approximately 2.0 miles from milepost 33 on the Oneida Line along Beech Fork before reaching a junction from which it continues in a southeasterly direction along Stoney Fork for approximately 1.67 miles before dead-ending in Clinchmore. The Line traverses U.S. Postal Service Zip Code 37714.

¹ After the Board ordered RJC Railroad Property to clarify the endpoint of the Line, the railroad on November 13, 2023, modified the description of the Line. (See RJC R.R. Prop. Reply 1-2, Nov. 13, 2023; see also RJC R.R. Prop. Letter, Nov. 28, 2023 (making conforming edits to the petition).) Thereafter, it also amended its Combined Environmental and Historic Report on November 20, 2023. Therefore, for the purpose of calculating upcoming statutory and regulatory dates, November 20, 2023, will be deemed the filing date for the petition for exemption.

On November 17, 2022, the Board conditioned abandonment of a connecting line, known as the Oneida Line, on the abandonment of any 49 U.S.C. 10901 track that could be stranded by abandonment of the Oneida Line. See R. J. Corman R.R. Prop., LLC—Aban. Exemption—in Scott, Campbell & Anderson Cntys, Tenn., AB 1296X, slip op. at 5-6 (STB served Nov. 17, 2022). According to RJC Railroad Property, this abandonment proceeding seeks to resolve the issue of any and all potentially stranded section 10901 track by formally seeking abandonment authority for the Line, which RJC Railroad Property has determined to be the only section 10901 track at issue. (Pet. 3.)

In addition to an exemption from 49 U.S.C. 10903, RJC Railroad Property seeks (1) exemption from the offer of financial assistance (OFA) procedures of 49 U.S.C. 10904 and waiver of the related regulations at 49 CFR 1152.27, (2) exemption from the public use provisions of 49 U.S.C. 10905 and waiver of the related regulations at 49 CFR 1152.28, and (3) waiver of the interim trail use provisions of 49 CFR 1152.29. RJC Railroad Property argues that these provisions are not necessary to carry out the rail transportation policy of 49 U.S.C. 10101 (RTP) and that granting the exemptions and waivers will instead promote the RTP by eliminating unnecessary procedures and expediting the process. (Pet. 12-13.) These requests will be addressed in the Board's final decision.

Based on the information in its possession, RJC Railroad Property states that the Line does not contain federally granted rights-of-way. Any documentation in RJC Railroad Property's possession will be made available to those requesting it.

The interest of railroad employees will be protected by the conditions set forth in Oregon Short Line Railroad—Abandonment Portion Goshen Branch Between Firth & Ammon, in Bingham & Bonneville Counties, Idaho, 360 I.C.C. 91 (1979).

By decision served July 20, 2023, the Board instituted a proceeding pursuant to 49 U.S.C. 10502(b). A final decision will be issued by March 8, 2024. See 49 CFR 1152.26(a); R. J. Corman R.R. Prop., LLC—Aban. Exemption—in Scott, Campbell, & Anderson Cntys., Tenn., AB 1296X et al., slip op. 6 n.9 (STB served Oct. 11, 2023).

Any OFA under 49 CFR 1152.27(b)(2) will be due no later than March 19, 2024 (120 days after the November 20, 2023 deemed filing date of the petition) or 10 days after service of a decision granting the petition for exemption, whichever occurs sooner. Persons interested in submitting an OFA must first file a formal expression of intent to file an offer by December 18, 2023, indicating the type of financial assistance they wish to provide (i.e., subsidy or purchase) and demonstrating that they are preliminarily financially responsible. See 49 CFR 1152.27(c)(1)(i).

Following abandonment, the Line may be suitable for other public use, including interim trail use. Any request for a public use condition under 49 CFR 1152.28 or for interim trail use/rail banking under 49 CFR 1152.29 will be due no later than December 28, 2023.²

² Filing fees for OFAs and trail use requests can be found at 49 CFR 1002.2(f)(25) and (27), respectively.

All pleadings, referring to Docket No. AB 1296 (Sub-No. 1X), must be filed with the Surface Transportation Board either via e-filing on the Board's website or in writing addressed to 395 E Street SW, Washington, DC 20423-0001. In addition, a copy of each pleading must be served on RJC Railroad Property's representative, Catherine S. Wright, Jackson Kelly PLLC, 100 West Main Street, Suite 700, Lexington, KY 40588-2150. Replies to the petition are due on or before December 28, 2023.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0294. If you require an accommodation under the Americans with Disabilities Act, please call (202) 245-0245.

A Draft Environmental Assessment (Draft EA) (or Draft Environmental Impact Statement (Draft EIS), if necessary) prepared by OEA will be served upon all parties of record and upon any other agencies or persons who comment during its preparation. Other interested persons may contact OEA to obtain a copy of the Draft EA (or Draft EIS). Draft EAs in abandonment proceedings normally will be made available within 60 days of the filing of the petition. The deadline for submission of comments on a Draft EA generally will be within 30 days of its service.

Board decisions and notices are available at www.stb.gov.

Decided: December 4, 2023.
By the Board, Mai T. Dinh, Director, Office of Proceedings.
Brendetta Jones,
Clearance Clerk.

[FR Doc. 2023-26958 Filed 12-7-23; 8:45 am]

BILLING CODE 4915-01-P